DEPARTMENT OF STATE

[Public Notice 8453]

Culturally Significant Object Imported for Exhibition Determinations: “Iran Modern”

ACTION: Notice, correction.

SUMMARY: On August 8, 2013, notice was published on page 48539 of the Federal Register (volume 78, number 153) of determinations made by the Department of State pertaining to the exhibit “Iran Modern.” The referenced notice is corrected to accommodate an additional object to be included in the exhibition. Pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, and Delegation of Authority No. 236-3 of August 28, 2000 (and, as appropriate, Delegation of Authority No. 257 of April 15, 2003), I hereby determine that the additional object to be included in the exhibition “Iran Modern,” imported from abroad for temporary exhibition within the United States, is of cultural significance. The additional object is imported pursuant to a loan agreement with the foreign owner or custodian. I also determine that the exhibition or display of the additional exhibit object at The Asia Society in New York, New York, from on or about September 6, 2013, until on or about January 5, 2014, and at possible additional exhibitions or venues yet to be determined, is in the national interest. I have ordered that Public Notice of these Determinations be published in the Federal Register.

FOR FURTHER INFORMATION CONTACT: For further information, including a list of the exhibit objects that includes this additional object, contact Ona M. Hahs, Attorney-Adviser, Office of the Legal Adviser, U.S. Department of State (telephone: 202-632-6473). The mailing address is U.S. Department of State, SA-5, L/PD, Fifth Floor (Suite 5H03), Washington, DC 20522-0505.

Dated: August 29, 2013.
Lee Satterfield,
Deputy Assistant Secretary for Professional and Cultural Exchanges, Bureau of Educational and Cultural Affairs, Department of State.

[FR Doc. 2013-21882 Filed 9-6-13; 8:45 am]

BILLING CODE 4710-05-P